DEPARTMENT OF COMMERCE

National Oceanic and Atmospheric Administration

RIN 0648-XR39

Endangered and Threatened Species; Recovery Plans

AGENCY: National Marine Fisheries Service (NMFS), National Oceanic and Atmospheric Administration, Commerce.

ACTION: Notice of availability; request for comments and notice of public meetings.

SUMMARY: The National Marine Fisheries Service (NMFS) announces availability for public review and comment of the Draft Central Valley Salmon and Steelhead Recovery Plan (Draft Plan). The Draft Plan addresses the Sacramento River winter-run Chinook salmon (Oncorhynchus tshawytscha) Evolutionarily Significant Unit (ESU), the Central Valley spring-run Chinook salmon (O. tshawytscha) ESU, and the Distinct Population Segment (DPS) of Central Valley Steelhead (Oncorhynchus mykiss). NMFS is soliciting review and comment from the public and all interested parties on the Draft Plan. In addition, four public meetings will be held in October 2009 as opportunities for providing comments on the Draft Plan (dates to be determined).

DATES: NMFS will consider and address all substantive comments received during the comment period. Comments must be received no later than 5 p.m. Pacific Standard Time on December 7, 2009. Public meetings will also be held (see Public Meetings below).

ADDRESSES: Please send written comments and materials to Brian Ellrott, National Marine Fisheries Service, 650 Capitol Mall, Suite 8-300, Sacramento, CA 95816. Comments may also be submitted by e-mail to: CentralValleyPlan.SWR@noaa.gov. Include in the subject line of the e-mail comment the following identifier: “Comments on Central Valley Salmon and Steelhead Draft Plan.” Comments may be submitted via facsimile (fax) to (916) 930-3629.

Persons wishing to review the Draft Plan can obtain an electronic copy (i.e., CD-ROM) from Aimee Diefenbach by calling (916) 930-3600 or by e-mailing a request to aimee.diefenbach@noaa.gov with the subject line “CD-ROM Request for Central Valley Salmon and Steelhead Recovery Draft Plan.” Electronic copies of the Draft Plan are also available on-line on the NMFS website http://swr.nmfs.noaa.gov/recovery/centralvalleyplan.htm.

The specific dates, times, and locations of public meetings will be posted on this website as they become available.

FOR FURTHER INFORMATION CONTACT: Brian Ellrott at (916) 930-3612 or Howard Brown, NMFS Sacramento River Basin Branch Chief at (916) 930-3608.

SUPPLEMENTARY INFORMATION:

Background

Recovery plans describe actions beneficial to the conservation and recovery of species listed under the Endangered Species Act of 1973 (ESA), as amended (16 U.S.C. 1531 et seq.). The ESA requires that recovery plans incorporate: (1) objective, measurable criteria which, when met, would result in a determination that the species is no longer threatened or endangered; (2) site-specific management actions necessary to achieve the plan's goals; and (3) estimates of the time required and costs to implement recovery actions. The ESA requires the development of recovery plans for each listed species unless such a plan would not promote its recovery.

NMFS is responsible for developing and implementing ESA recovery plans for listed salmon and steelhead. In so doing, NMFS' goal is to restore endangered and threatened Pacific salmonids to the point that they are again self-sustaining members of their ecosystems and no longer need the protections of the ESA.

Recovery Plans developed under the ESA are guidance documents, not regulatory documents. However, the ESA envisions Recovery Plans as the central organizing tool for guiding the recovery of listed species. Recovery Plans also guide Federal agencies in fulfilling their obligations under section 7(a)(1) of the ESA, which calls on all Federal agencies to “utilize their authorities in furtherance of the purposes of this Act by carrying out programs for the conservation of endangered species and threatened species.” In addition to outlining proactive measures to achieve species recovery, Recovery Plans provide a context and framework for implementing other provisions of the ESA with respect to a particular species, including consultations on Federal agency activities under section 7(a)(2) and the development of Habitat Conservation Plans in accordance with section 10(a)(1)(B).

This Draft Plan serves as a guideline for achieving recovery criteria and goals by describing the criteria by which NMFS would measure species recovery, the strategy to achieve recovery, and the recovery actions necessary to achieve viable ESU's of Sacramento River winter-run Chinook salmon and Central Valley spring-run Chinook salmon, and a viable DPS of Central Valley steelhead.

Recovery Criteria

Recovery criteria are built upon criteria recommended by the NMFS Technical Recovery Team (TRT) for the identification of viable anadromous salmonid populations and ESUs/DPSs. A viable population is defined as a population having a negligible risk (<5%) of extinction due to threats from demographic variation, non-catastrophic environmental variation, and genetic diversity changes over a 100-year time frame. A viable ESU/DPS is comprised of a sufficient number of viable populations sufficiently dispersed spatially, but well connected enough to maintain long-term (1,000-year) persistence and evolutionary potential (McElhany et al. 2000). The viability criteria are intended to describe characteristics of the species and its natural environments necessary for both individual populations and the ESU/DPS as a whole to be viable, i.e., persist over a specific period of time.

Recovery of winter-run Chinook salmon, spring-run Chinook salmon, and steelhead in the Central Valley will require recovery of a sufficient number of viable populations of each species within each of the species' historic diversity groups defined by the TRT. Recovery of individual populations is necessary to conserve the natural diversity (genetic, phenotypic, and behavioral), spatial distribution, and abundance of each species, and thus the long-term viability of each ESU/DPS as a whole. Additionally, the ESU/DPS as a whole must contain a minimal number of viable populations, or interacting trans-basin populations, within each diversity group in order to withstand environmental variation of the sort known to have occurred in the Central Valley over the last 500-1,000 years. Such variation has included natural catastrophes such as prolonged drought, volcanic eruptions, large wildfires, and anthropogenic impacts such as the 1991 Cantara metam sodium spill. Therefore, for ESUs/DPSs to be considered viable, they should be able to persist if challenged by these types of catastrophes as well as anthropogenic climate change.

Recovery Strategy

Achieving recovery of winter-run Chinook salmon, spring-run Chinook salmon, and steelhead will require a number of coordinated activities, such as: (1) implementing the strategic and threat-specific recovery actions identified in this Draft Plan, including actions directed at increasing the quantity and quality of habitat available to anadromous salmonids, minimizing hatchery effects, and improving harvest management; (2) monitoring the abundance and distribution of existing populations for all three species and their response to recovery actions; and (3) researching the diverse life-history patterns and adaptations of Central Valley steelhead to a highly dynamic environment (e.g., the ecological relationship between anadromous and non-anadromous life-history forms).

There remain uncertainties regarding the level of recovery necessary to achieve population viability, therefore, additional research and monitoring of winter-run Chinook salmon, spring-run Chinook salmon, and steelhead in the Central Valley is an essential component of this Draft Plan. As this Draft Plan is implemented over time, additional information will become available to: (1) refine the viability criteria; (2) update and refine the species-specific threats assessments and related recovery actions; (3) determine whether individual threats have been abated; and (4) evaluate the overall viability of winter-run Chinook salmon, spring-run Chinook salmon, and steelhead in the Central Valley. There will be a review of the recovery actions implemented and population and habitat responses to these actions at the 5-year and 10-year status reviews for each ESU/DPS.

Effective implementation of recovery actions will also entail: (1) extensive public education (including the general public, non-governmental agencies, and local, regional, State, and Federal governmental agencies,) regarding the role and value of these species within the larger watershed environment; (2) development of cooperative relationships with private land owners, special districts, federally-recognized tribes, and local governments with direct control and responsibilities over non-federal land-use practices; (3) participation in the land use and water planning and regulatory processes of local, regional, State, and Federal agencies; (4) close cooperation with other state resource agencies such as the California Department of Fish and Game, California Department of Water Resources, CalTrans, and the California Department of Parks and Recreation, and (5) partnering with Federal resource agencies, including the U.S. Forest Service, U.S. Fish and Wildlife Service, National Park Service, U.S. Bureau of Reclamation, U.S. Bureau of Land Management, U.S. Army Corps of Engineers, U.S. Department of Transportation, U.S. Department of Defense, and the U.S. Environmental Protection Agency.

Recovery Actions

Many complex and inter-related biological, economic, social, and technological issues must be addressed in order to recover anadromous salmonids in the Central Valley. Policy changes at the Federal, state, and local levels will likely be necessary to implement many of the recovery actions identified in this Draft Plan. For example, without substantial strides in water conservation throughout California, flow conditions for anadromous salmonids will limit recovery. Similarly, recovery is unlikely without programs to restore properly functioning historic habitat such as estuaries, and access to upstream spawning and rearing habitat.

Implementation and Cost Estimates

Implementation of this Draft Plan by NMFS will take many forms. To achieve recovery, NMFS will need to promote the Draft Plan and provide needed technical information and assistance to other entities responsible for actions that may impact the species' recovery. NMFS should work with key partners on planning and implementation of all high priority recovery actions. Additionally it will be important to work with local governments to ensure that protective measures consistent with recovery objectives are included in their general and local plans. NMFS should also work with state and Federal regional entities on Regional Water Control Board Basin Plans and U.S. Forest Service Plans.

An implementation schedule describing time frames and costs associated with individual recovery actions is included in the Draft Plan and is continuing to be developed as information becomes available. Estimating total cost to recovery is much more challenging, if not impossible to estimate for a variety of reasons. These include the large geographic extent of the Central Valley; the long-term duration (e.g., likely decades) expected to achieve full recovery; and the uncertainty associated with population responses to changing environmental conditions. In some instances, however, NMFS is able to estimate the costs associated with certain common restoration activities such as those undertaken as part of the Calfed Ecosystem Restoration Program, the U.S. Fish and Wildlife Service Anadromous Fish Restoration Program, or the California Department of Water Resource's Fish Passage Improvement Program. An appendix to the Draft Plan contains estimates for these categories of typical watershed restoration actions.

The criteria and recovery actions identified in the Draft Plan provide a comprehensive road-map for recovery and are consistent with many ongoing activities intended to protect and or restore ecosystem functions in Central Valley watersheds. As a result, many of these recovery actions will be undertaken by local, state and Federal agencies, as well as non-governmental organizations and other private entities as a part of their local ecosystem protection efforts. Also, the wide variety of threats to Central Valley salmon and steelhead provide for a variety of potential funding sources available to develop and implement these recovery actions, often as part of other ongoing natural resource restoration, management, and mitigation programs.

Public Comments Solicited

NMFS solicits written comments on the Draft Plan. All comments received by the date specified above will be considered prior to NMFS' decision whether to approve the Draft Plan. NMFS seeks comments particularly in the following areas: (1) the analysis of limiting factors and threats; (2) the recovery objectives, strategies, and actions, especially in regard to the selection of core populations, priority areas for reintroduction, and critical recovery actions; (3) the criteria for removing ESUs/DPSs from the Federal list of endangered and threatened wildlife and plants; and (4) estimates of time and cost to implement recovery actions. NMFS will also hold public meetings to provide an opportunity for the public to learn more about the Draft Plan, ask questions of NMFS staff, and submit oral or written comments on the Draft Plan.

Public Meetings

Four public meetings will be held, two in Chico, CA and two in Sacramento, CA . The two Chico meetings will occur on the same date with one three-hour meeting during the day followed by one two-hour meeting in the evening. The Sacramento meetings will follow this same day/evening approach. The meetings will be targeted toward receiving comments from key stakeholders and salmon recovery “practitioners” such as local jurisdiction officials, state and local agency personnel, industry representatives, public and non-profit interest representatives, and others who have a professional involvement and knowledge of salmon recovery issues, as well as general public and other constituencies.

Literature Cited

McElhany, P., Ruckelshaus, M.H., Ford, M.J., Wainwright, T.C., and Bjorkstedt, E.P. 2000. Viable Salmonid Populations and the Conservation of Evolutionarily Significant Units. U.S. Department of Commerce. NOAA Technical Memorandum. NMFS NWFSC 42. Seattle, WA.Authority: 16 U.S.C. 1531 et seq.

Dated:September 30, 2009.
Angela Somma,
Chief, Endangered Species Division, Office of Protected Resources, National Marine Fisheries Service.

[FR Doc. E9-24224 Filed 10-6-09; 8:45 am]

BILLING CODE 3510-22-S